DEPARTMENT OF HEALTH AND HUMAN SERVICES

National Institutes of Health

Center for Scientific Review; Amended Notice of Meeting

Notice is hereby given of a change in the meeting of the Center for Scientific Review Special Emphasis Panel, RFA-AI-24-080 Broad Spectrum Products Against Multiple Neurotoxin Botulinum Serotypes (R61/R33 Clinical Trial Not Allowed). November 14, 2025, 10:00 a.m. to November 14, 2025, 05:00 p.m., National Institutes of Health, Rockledge II, 6701 Rockledge Drive, Bethesda, MD 20892 which was published in the Federal Register on September 23, 2025, 90 FR 45775, Doc No. 2025-18347

This meeting is being amended to change the date from November 14, 2025, to December 2, 2025. The meeting is closed to the public.

Dated: September 26, 2025.
Denise M. Santeufemio,
Program Analyst, Office of Federal Advisory Committee Policy.

[FR Doc. 2025-19026 Filed 9-29-25; 8:45 am]

BILLING CODE 4140-01-P